DEPARTMENT OF HOUSING AND URBAN DEVELOPMENT

[Docket No. FR-5045-N-25]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Marsha Pruitt, Realty Officer, Department of Agriculture, Reporters Building, 300 7th St., SW., Rm 310B, Washington, DC 20250; (202) 720-4335; ENERGY: Mr. John Watson, Department of Energy, Office of Engineering & Construction Management, ME-90, 1000 Independence Ave, SW., Washington, DC 20585; (202) 586-0072; GSA: Mr. John Kelly, Acting Deputy Assistant Commissioner, General Services Administration, Office of Property Disposal, 18th & F Streets, NW., Washington, DC 20405; (202) 501-0084; INTERIOR: Ms. Linda Tribby, Acquisition & Property Management, Department of the Interior, 1849 C Street, NW., MS5512, Washington, DC 20240; (202) 513-0747; NAVY: Mr. Warren Meekins, Department of the Navy, Real Estate Services, Naval Facilities Engineering Command, Washington Navy Yard, 1322 Patterson Ave., SE., Suite 1000, Washington, DC 20374-5065; (202) 685-9305. (These are not toll-free numbers.)

Dated: June 15, 2006.
Mark R. Johnston,
Acting Deputy Assistant Secretary for Special Needs.

Title V, Federal Surplus Property Program Federal Register Report for 6/23/06

Suitable/Available Properties

Buildings (by State)

Montana

Bldg. 2002

200 Ranger Station Rd.

Bigfork Co: Flathead MT 59911-

Landholding Agency: Agriculture

Property Number: 15200620001

Status: Excess

Comment: 1503 sq. ft., needs rehab, most recent use—office, presence of asbestos/lead paint, off-site use only

Border Patrol Station

906 Oilfield Avenue

Shelby Co: Toole MT 59474-

Landholding Agency: GSA

Property Number: 54200620010

Status: Excess

Comment: Bldg/1944 sq. ft.; garage/650 sq. ft.; shed/175 sq. ft.; potential asbestos/lead paint/radon

GSA Number : 7-Z-MT-0617

Land (by State)

Hawaii

Direction Finder Site

Kaluakoi Co: Maui HI 96770-

Landholding Agency: GSA

Property Number: 54200620019

Status: Excess

Comment: 0.331 acre, easement restrictions/other restrictions, covered with vegetation

GSA Number: 00000

Utah

0.21 acres

Circle View Plat B

Highland Co: UT 84003-

Landholding Agency: Interior

Property Number: 61200620005

Status: Excess

Comment: Permanent easement, contains two large buried high pressure water pipelines

Unsuitable Properties

Buildings (by State)

Hawaii

Bldg. 40

Naval Magazine

Ewa Beach Co: Honolulu HI 96706-

Landholding Agency: Navy

Property Number: 77200620024

Status: Excess

Reason: Extensive deterioration

Bldgs. 5380, 5381

Naval Magazine

Ewa Beach Co: Honolulu HI 96706-

Landholding Agency: Navy

Property Number: 77200620025

Status: Excess

Reason: Extensive deterioration

Bldgs. 487, 488

Naval Station

Pearl Harbor Co: Honolulu HI 96860-

Landholding Agency: Navy

Property Number: 77200620026

Status: Excess

Reason: Extensive deterioration

Pennsylvania

Bldg. A15

Naval Air Station

Warminster Co: PA 18954-

Landholding Agency: Navy

Property Number: 77200620031

Status: Excess

Reasons: Secured Area, Extensive deterioration

Bldg. 117

Naval Air Station

Warminster Co: PA 18954-

Landholding Agency: Navy

Property Number: 77200620032

Status: Excess

Reasons: Secured Area, Extensive deterioration

Bldg. 139

Naval Air Station

Warminster Co: PA 18954-

Landholding Agency: Navy

Property Number: 77200620033

Status: Excess

Reason: Secured Area

Rhode Island

Bldg. 42

Naval Station

Middletown Co: Newport RI 02841-

Landholding Agency: Navy

Property Number: 77200620027

Status: Unutilized

Reasons: Within 2000 ft. of flammable or explosive material, Secured Area, Extensive deterioration

Bldg. 77

Naval Station

Middletown Co: Newport RI 02841-

Landholding Agency: Navy

Property Number: 77200620028

Status: Unutilized

Reasons: Secured Area, Extensive deterioration

Bldg. 86

Naval Station

Middletown Co: Newport RI 02841-

Landholding Agency: Navy

Property Number: 77200620029

Status: Unutilized

Reasons: Within 2000 ft. of flammable or explosive material, Secured Area, Extensive deterioration

South Carolina

Bldg. 714-000A

Savannah River Site

Aiken Co: SC

Landholding Agency: Energy

Property Number: 41200620014

Status: Underutilized

Reason: Secured Area

Bldgs. 711-000P, 711-001P

Savannah River Site

Aiken Co: SC 29802

Landholding Agency: Energy

Property Number: 41200620015

Status: Excess

Reason: Secured Area

Bldg. 777-018A

Savannah River Site

Aiken Co: SC 29802-

Landholding Agency: Energy

Property Number: 41200620022

Status: Excess

Reason: Secured Area

21 Bldgs.

Naval Weapons Station

Goose Creek Co: Berkely SC 29445-

Location: 4, 167C, 174, 180, 350, 383, 400, 410, 769, 790, 823, 824, 904, 930, 930A, 953, 953A, 971, 975, 2305, 3526

Landholding Agency: Navy

Property Number: 77200620034

Status: Unutilized

Reasons: Within 2000 ft. of flammable or explosive material, Secured Area

Tennessee

Bldgs. 9102-1, 9102-2

Y-12 Natl Nuclear Security Complex

Oak Ridge Co: TN 37831-

Landholding Agency: Energy

Property Number: 41200620016

Status: Unutilized

Reason: Secured Area

Bldg. 9704-1

Y-12 Natl Nuclear Security Complex

Oak Ridge Co: TN 37831-

Landholding Agency: Energy

Property Number: 41200620017

Status: Unutilized

Reason: Secured Area

Bldgs. 9711-1, 9712

Y-12 Natl Nuclear Security Complex

Oak Ridge Co: TN 37831-

Landholding Agency: Energy

Property Number: 41200620018

Status: Unutilized

Reason: Secured Area

Bldgs. 9720-4, 9738

Y-12 Natl Nuclear Security Complex

Oak Ridge Co: TN 37831-

Landholding Agency: Energy

Property Number: 41200620019

Status: Unutilized

Reason: Secured Area

Bldg. 9771

Y-12 Natl Nuclear Security Complex

Oak Ridge Co: TN 37831-

Landholding Agency: Energy

Property Number: 41200620020

Status: Unutilized

Reason: Secured Area

Bldgs. 9983, 9985

Y-12 Natl Nuclear Security Complex

Oak Ridge Co: TN 37831-

Landholding Agency: Energy

Property Number: 41200620021

Status: Unutilized

Reason: Secured Area

Virginia

Bldgs. C-5, U-115, X-360

Naval Station

Norfolk Co: VA 23511-

Landholding Agency: Navy

Property Number: 77200620030

Status: Excess

Reason: Secured Area

[FR Doc. E6-9682 Filed 6-22-06; 8:45 am]

BILLING CODE 4210-67-P